DEPARTMENT OF THE INTERIOR

Fish and Wildlife Service

Aquatic Nuisance Species Task Force Mississippi River Basin Panel Meeting

AGENCY: Fish and Wildlife Service, Interior.

ACTION: Notice of meeting.

SUMMARY: This notice announces a meeting of the Aquatic Nuisance Species (ANS) Task Force Mississippi River Basin Regional Panel. The meeting topics are identified in the SUPPLEMENTARY INFORMATION.

DATES: The Mississippi River Basin Regional Panel will meet from 8 a.m. to 5 p.m. on Thursday, January 8, 2004, and 8 a.m. to 4 p.m. on Friday, January 9, 2004. Minutes of the meeting will be available for public inspection during regular business hours, Monday through Friday.

ADDRESSES: The Mississippi River Basin Regional Panel meeting will be held at the Radisson Hotel—New Orleans, 1500 Canal Street, New Orleans, LA 70112. Phone 504-522-4500. Minutes of the meeting will be maintained in the office of Chief, Division of Environmental Quality, U.S. Fish and Wildlife Service, Suite 322, 4401 North Fairfax Drive, Arlington, Virginia 22203-1622.

FOR FURTHER INFORMATION CONTACT: Jay Rendall, Mississippi River Basin Panel Chair and Exotic Species Program Coordinator, Minnesota Department of Natural Resources at (651) 297-1464 or Jerry Rasmussen, Coordinator, MICRA, P.O. Box 774, Bettendorf, IA 52722, at (309) 793-5811, or Shawn Alam, Aquatic Nuisance Species Task Force at (703) 358-2025.

SUPPLEMENTARY INFORMATION: Pursuant to section 10(a)(2) of the Federal Advisory Committee Act (5 U.S.C. App. I), this notice announces meetings of the Aquatic Nuisance Species Task Force Mississippi River Basin Regional Panel. The Task Force was established by the Nonindigenous Aquatic Nuisance Prevention and Control Act of 1990. The Mississippi River Basin Regional Panel was established by the ANS Task Force in 2002. The Mississippi River Basin Panel, comprised of representatives from Federal, State, local agencies and from private environmental and commercial interests, performs the following activities:

a. Identifies priorities for activities in the Mississippi River Basin,

b. develops and submits recommendations to the national Aquatic Nuisance Species Task Force,

c. coordinates aquatic nuisance species program activities in the Basin,

d. advises public and private interests on control efforts, and

e. submits an annual report to the Aquatic Nuisance Species Task Force.

The purpose of the Panel is to advise and make recommendations to the Aquatic Nuisance Species Task Force on issues relating to the Mississippi River Basin region of the United States that includes thirty-two Mississippi River Basin States: Alabama, Arkansas, Colorado, Georgia, Iowa, Illinois, Indiana, Kentucky, Kansas, Louisiana, Maryland, Michigan, Minnesota, Missouri, Mississippi, Montana, North Carolina, North Dakota, Nebraska, New Mexico, New York, Ohio, Oklahoma, Pennsylvania, South Carolina, South Dakota, Tennessee, Texas, Virginia, West Virginia, Wisconsin, and Wyoming. The Mississippi River Basin Regional Panel will discuss several topics at this meeting including: a review of the first Panel meeting and Panel efforts to date including the development of an Executive Board report; presentations on round goby predation on smallmouth bass eggs; updates on Asian Carp, bighead and silver carp risk assessments; updates on white perch and distribution of ANS in the Basin; discussions on pathways and prevention activities such as the use of HACCP in fish hatcheries; a report on an Asian carp barrier feasibility study initiated by the Minnesota DNR; development of national ballast water regulations, and state ballast water regulations; status reports from panel subcommittees; a discussion on each subcommittee's responsibilities, the 2004 Action Plans, and recommendations for the ANS Task Force; and updates from Panel member organizations and states.

Dated: December 1, 2003.
William E. Knapp,
Acting Co-Chair, Aquatic Nuisance Species Task Force, Acting Assistant Director—Fisheries & Habitat Conservation.

[FR Doc. 03-31211 Filed 12-17-03; 8:45 am]

BILLING CODE 4310-55-M